DEPARTMENT OF ENERGY

Federal Energy Regulatory Commission

Notice of Wholesale Electric Transactions Electronic Tagging Demonstration

February 11, 2000.

Take notice that on Friday, February 25, 2000, Southern Company Services, Inc. and Enron Power Marketing, Inc. will make a presentation before the Commission, interested staff, and interested members of the public, on the use of electronic tagging in the implementation of wholesale electricity transactions. The presentation will illustrate for a representative electric interchange transaction, what information is required and how an electronic tag is prepared and submitted by a transmission customer, and how it is verified and accepted by the transmission provider, in order to implement the transaction.

The presentation will be held on February 25, 2000, beginning at 10:00 am, in the Commission Meeting Room 2nd Floor, 888 First Street, NE, Washington, DC 20426.

Linwood A. Watson, Jr.,
Acting Secretary.

[FR Doc. 00-3759 Filed 2-16-00; 8:45 am]

BILLING CODE 6717-01-M